DEPARTMENT OF AGRICULTURE

Commodity Credit Corporation

RIN 0560-AH92

Notice of Funds Availability (NOFA) for the Collection, Harvest, Storage, and Transportation of Eligible Material

AGENCY: Commodity Credit Corporation and Farm Service Agency, USDA.

ACTION: Notice.

SUMMARY: This NOFA announces that funds are being made available beginning in 2009 for certain provisions of the Biomass Crop Assistance Program (BCAP) established by the Food, Conservation, and Energy Act of 2008 (2008 Farm Bill), in order to provide matching payments to certain persons or entities for the collection, harvest, storage, and transportation (CHST) of eligible material delivered to qualified biomass conversion facilities.

DATES: We will consider comments on the information collection that we receive by August 10, 2009.

ADDRESSES: We invite you to submit comments on the NOFA and the related information collection that is described in the Paperwork Reduction Act section. In your comment, include the date, volume, and page number of this issue of the Federal Register. All comments will become a matter of public record.

You may submit comments by any of the following methods:

• Mail: Farm Service Agency (FSA), USDA, ATTN: Mike Linsenbigler, Acting Director, Conservation and Environmental Programs Division, STOP 0513, 1400 Independence Ave., SW., Washington, DC 20250.

• E-mail: Send comment to: mike.linsenbigler@wdc.usda.gov.

• Fax: (202) 720-4619.

For comments on the information collection, you may also send comments to the Desk Officer for Agriculture, Office of Information and Regulatory Affairs, Office of Management and Budget, Washington, DC 20503.

FOR FURTHER INFORMATION CONTACT: Mike Linsenbigler, (202) 720-6221.

SUPPLEMENTARY INFORMATION: Section 9001 of the 2008 Farm Bill (Pub. L. 110-246) amends Title IX of the Farm Security and Rural Investment Act of 2002 by adding section 9011 to authorize BCAP. The purpose of BCAP is to assist agricultural and forest land owners and operators with the collection, harvest, storage, and transportation of eligible material for use in a biomass conversion facility and to support the establishment and production of eligible crops for conversion to bioenergy in selected BCAP project areas.

On May 5, 2009, the President issued a Presidential Directive to Secretary of Agriculture Tomas R. Vilsack to aggressively accelerate the investment in and production of biofuels (published in the Federal Register on May 7, 2009 (74 FR 21531-21532)). Secretary Vilsack also announced that he will help lead an unprecedented interagency effort to increase America's energy independence and spur rural economic development.

The Presidential directive requests that Secretary Vilsack take steps to the extent permitted by law to expedite and increase production of and investment in biofuel development efforts by, among other things, making renewable energy financing opportunities from the 2008 Farm Bill available within 30 days, which includes guidance and support for collection, harvest, storage, and transportation assistance of eligible materials for use in biomass conversion facilities.

This NOFA represents the first in a multi-step process to implement BCAP and is published to provide guidance for interested parties on CHST pursuant to the Presidential Directive. In conjunction with this NOFA, FSA will be undertaking public meetings pursuant to the notice published on May 13, 2009, for the preparation of an Environmental Impact Statement (EIS) for BCAP (74 FR 22510-22511). FSA requested public comments and is holding six public meetings throughout the nation. Comments for consideration must be received by June 12, 2009. Comments may be e-mailed to bcapeis@geo-marine.com or faxed to (757) 873-3703. Mail comments to: BCAP EIS c/o Geo-Marine, Inc., 2713 Magruder Boulevard, Suite D, Hampton, Virginia 23566. CCC initially solicited comments on a proposed EIS in the Federal Register on October 1, 2008 (73 FR 57047-57048). FSA will be incorporating the public comments from the public meetings, other public comments previously submitted and those comments submitted in response to this NOFA into rulemaking for CHST later this year. Finally, the full EIS and all comments and lessons learned from three BCAP notices (including this NOFA) will be incorporated into the rulemaking for the entire BCAP program, which will include CHST.

General Discussion

This NOFA provides a general discussion of the provisions that will be used to administer payments for the collection, harvest, storage, and transportation of eligible material delivered to qualified biomass conversion facilities in advance of the rule on BCAP (including CHST). In particular it provides policies and processes for (1) providing payments for the collection, harvest, storage, and transportation of eligible material to qualified biomass conversion facilities and (2) qualifying CHST biomass conversion facilities. The CHST matching payment program as established in this NOFA will be implemented under the general direction and supervision of the Executive Vice President, CCC, and the Deputy Administrator for Farm Programs, FSA (Deputy Administrator). On an individual case basis, the Deputy Administrator may consider granting an exception to requirements of this NOFA if the exception is not inconsistent with the 2008 Farm Bill requirements or other applicable law and it will not adversely affect the CHST matching payments program. Section 9011 (d) and (f) provides authority to use such sums as necessary of CCC funds to carry out BCAP, including for CHST matching payments.

The purpose of the CHST matching payment program is to assist eligible persons or entities with the collection, harvest, storage, and transportation of eligible material delivered for use in a CHST-qualified biomass conversion facility in advance of full implementation of BCAP. Through the CHST matching payment program CCC will provide payments at a rate of $1 for each $1 per dry ton paid by the CHST-qualified biomass conversion facility to the owner for delivery of eligible material to the facility in an amount not to exceed $45 per dry ton. This program will be available to eligible material owners for a period of two years. These matching payments may be made to persons delivering eligible material to a CHST qualified biomass conversion facility who possess the right to collect or harvest eligible material and are considered the owners of the eligible material.

Definitions

The following definitions will be used for CHST:

Arm's-length transaction means a transaction between ready, willing, and able disinterested parties who are not affiliated with or related to each other and have no security, monetary, or stockholder interest in each other, with the exception that members of either (1) an association of agricultural producers or (2) farmer cooperative organizations, or (3) a farmer cooperative, may deliver and sell at market rates eligible material to such associations, organizations or cooperatives they have a monetary or stockholder interest in and such transaction may be considered arm's-length transactions.

Bill of lading means a document issued by a carrier to a shipper, acknowledging that specified goods have been received on board as cargo for conveyance to a named place for delivery to the consignee who is usually identified (also known as a “BOL” or “B/L”).

Biobased CHST product means a product, determined by the Deputy Administrator to be a commercial or industrial product (other than food or feed) that is:

(1) Composed in whole, or in significant part, of biological products, including renewable domestic agricultural materials and forestry materials or

(2) An intermediate ingredient or feedstock.

Biobased product does not mean commercially produced timber, lumber, wood pulp or other finished wood products.

Biomass conversion facility means a facility that converts or proposes to convert eligible material into:

(1) Heat,

(2) Power,

(3) Biobased products, or

(4) Advanced biofuels.

CCC stands for the Commodity Credit Corporation.

CHST stands for collection, harvest, storage, and transportation activities or, some combination thereof, for eligible material.

CHST matching payments means those CCC payments provided at a rate of $1 for each $1 per dry ton paid by the CHST-qualified biomass conversion facility to the owner for delivery of eligible material to the facility in an amount not to exceed $45 per dry ton pursuant to this NOFA.

CHST matching payment program means the program established by this NOFA for the collection, harvest, storage, and transportation of eligible material delivered to a qualified biomass conversion facility.

CHST qualified biomass conversion facility means a biomass conversion facility that meets all the requirements for qualification outlined in this NOFA, for which the facility owners enters into a memorandum of understanding (MOU) for such facility qualification with the Deputy Administrator.

Deputy administrator refers to the FSA Deputy Administrator for Farm Programs, FSA, or a designee.

Eligible material is, for purposes of the CHST matching payment program, renewable biomass with the following exclusions:

(1) Harvested grains, fiber, or other commodities eligible to receive payments under Title I of the 2008 Farm Bill;

(2) Animal waste and animal waste-byproducts including fats, oils, greases, and manure;

(3) Food waste and yard waste; or

(4) Algae.

Eligible material owner, for purposes of the CHST matching payment program, means a person having the right to collect or harvest eligible material and that has delivered the eligible material to a CHST qualified biomass conversion facility and including:

(1) For eligible material collected from private lands, including cropland, the owner of the land, the operator or producer conducting farming operations on the land, or any other person designated by the owner of the land and

(2) For eligible material collected from public lands, those persons with the right to collect eligible material pursuant to a contract or permit with the Forest Service or other appropriate Federal agency, such as a timber sale contract, stewardship contract or agreement, service contract or permit, or related applicable Federal land permit or contract, and who have submitted the permit or contract authorizing such collection for reproduction by FSA.

EPA refers to the U.S. Environmental Protection Agency.

Farm cooperative means a farmer- or rancher-owned and controlled business from which benefits are derived and distributed equitably on the basis of use by each of the farmer or rancher owners.

Farmer cooperative organization means a cooperative organization or an entity, not chartered as a cooperative that operates as a cooperative in that it is owned and operated for the benefit of its members, including the manner in which it distributes its dividends and assets.

Food waste means a material composed primarily of food items, or originating from food items, or compounds from domestic, municipal, food service operations, or commercial sources, including food processing wastes, residues, or scraps.

FSA refers to the Farm Service Agency.

Indian Tribe has the same meaning as in section 4 of the Indian Self-Determination and Education Assistance Act (25 U.S.C. 450b).

Institution of higher education has the same meaning as in section 102(a) of the Higher Education Act of 1965 (20 U.S.C. 1002(a)).

Intermediate ingredient or feedstock means an ingredient or compound made in whole or in significant part from biological products, including renewable agricultural materials (including plant, animal, and marine materials), or forestry material that are subsequently used to make a more complex compound or product.

Renewable biomass is defined for purposes of the CHST matching payment program to include the following:

(1) Materials, pre-commercial thinnings, or invasive species from National Forest System land and public lands (as defined in section 103 of the Federal Land Policy and Management Act of 1976 (43 U.S.C. 1702)) that:

(a) Are byproducts of preventive treatments that are removed to reduce hazardous fuels, to reduce or contain disease or insect infestation, or to restore ecosystem health;

(b) Would not otherwise be used for higher-value products; and

(c) Are harvested in accordance with applicable law and land management plans and the requirements for old-growth maintenance, restoration, and management direction of section 102 (e)(2), (3), and (4) of the Healthy Forests Restoration Act of 2003 (16 U.S.C. 6512) and large-tree retention of subsection (f) or

(2) Any organic matter that is available on a renewable or recurring basis from non-Federal land or land belonging to an Indian or Indian Tribe that is held in trust by the United States or subject to a restriction against alienation imposed by the United States, including: Renewable plant material (including feed grains, other agricultural commodities, other plants and trees, algae), and waste material (including crop residue, other vegetative waste material (including wood waste and wood residues), animal waste and byproducts (including fats, oils, greases, and manure), food waste, and yard waste).

United States and Territories means any of the 50 States of the United States, the Commonwealth of Puerto Rico, the District of Columbia, the U.S. Virgin Islands, Guam, American Samoa, the Commonwealth of the Northern Mariana Islands, the Republic of Palau, the Federated States of Micronesia, and the Republic of the Marshall Islands.

Yard waste means material composed primarily of yard maintenance, cleanup materials, or debris removal items, originating from residential, municipal or commercial yards, lawns, landscaped areas, or related sites.

The CHST Matching Payment Program

Eligibility Requirements

Organic matter meets eligibility requirements to be considered renewable biomass when collected and harvested from:

(1) The National Forest System;

(a) Except from lands designated as components of the Wilderness Preservation System or the Wild and Scenic River System, or as a National Monument, or composed of inventoried roadless areas;

(b) Except for biomass collection, harvesting, and transport conducted by an Eligible Material Owner who has an existing contract or grant, issued by the USDA Forest Service for the sale or removal of the material; and

(c) Subject to all laws and regulations that apply to the Forest Service, including the Endangered Species Act and environmental analysis as required by the National Environmental Policy Act (NEPA). All required environmental analysis must be completed and approved by the responsible official. All renewable biomass collected or harvested from Federal lands must be conducted through a contract or permit;

(2) Tribal, State, and other government locally owned land where biomass collection and harvesting is done within applicable environmental requirements, and all applicable Tribal, State or local government ordinances and permits;

(3) Cropland where biomass collection and harvesting is consistent with conservation plans required for highly erodible land under the Food Security Act of 1985, as amended;

(4) Non-industrial private forest land where biomass collection and harvesting is done in accordance with a forest stewardship plan, described in section 5 of the Cooperative Forestry Assistance Act of 1978 (16 U.S.C. 2103a), another practice plan approved by the State Forester, or a Forest Stewardship Plan developed by the State Forester, in those locations where such plans are available from State foresters for non-industrial private forest land owners at no expense to CCC; or

(5) Privately owned land, other than cropland, including pastureland, rangeland, other non-cropland, or non-industrial forest land where biomass collection and harvesting is done within applicable environmental requirements, and all applicable Tribal, State or local ordinances and permits.

CHST matching payments are not authorized for:

(1) Any eligible material delivery made before the publication of this NOFA;

(2) Any eligible material delivery made before the initial application for CHST matching payments is received and approved by FSA-COC; or

(3) Any scheme or device used to circumvent the provisions of this NOFA and related program requirements.

Applying To Be an Eligible Material Owner

A person who meets the definition of “eligible material owner” needs to apply to FSA; through the application, FSA will register the eligible material owner, make the determination that the person does meet the definition, and based on information provided in the application determine the amount of biomass for which the eligible material owner will be able to apply for CHST matching payments.

Eligible material owners may apply at the county FSA offices where their farm records are located. If farm records have not been established, the application must be filed with the county FSA office that is administratively responsible for the geographic location where the renewable biomass was harvested. (See http://www.fsa.usda.gov/FSA/stateOffices?area=stoffice&subject=landing&topic=landing for assistance in locating a county office).

Eligible material owners who deliver eligible material to multiple CHST qualified biomass conversion facilities must submit a separate application for each facility for which eligible material is delivered.

Ineligible or incomplete applications will be denied. If an application is determined to be ineligible for any reason, the Agency will inform the applicant, in writing, of the reasons and provide any applicable appeal rights.

Eligible material owners must submit applications using form AD-245, page 1, to the applicable FSA county office. The request must be submitted and approved by the FSA county office before the eligible material is delivered and any payment received by the facility for the eligible material.

Applications must include the following estimates based on amounts obtained from contracts, agreements, and or letters of intent required by this NOFA:

(1) An estimate of the total tons of eligible material expected to be sold to a certified biomass conversion facility;

(2) The type or types of eligible material that is expected to be sold;

(3) The name of the CHST qualified biomass conversion facility that will purchase the eligible material;

(4) The expected per ton price the owner plans to receive for the delivery of the eligible material; and

(5) The date or dates the eligible material is expected to be delivered to the facility.

Applying for CHST Matching Payments

After delivery, eligible material owners must submit AD-245, page 2, to notify the FSA Office at the County USDA Service Center and request the CHST matching payment. CHST matching payments will be disbursed only after delivery is verified by the FSA Office at the County USDA Service Center. All CHST matching payments will be issued by direct deposit unless other arrangements are made by the FSA Office at the County USDA Service Center and eligible material owner.

To receive CHST matching payments, eligible material owners must submit an application at the county FSA office and include:

(1) A copy of the original scale ticket (or tickets), clearly indicating the total actual tonnage delivered and signed by the manager or owner or of the CHST qualified biomass conversion facility, as well as a total dry-weight tonnage equivalent amount determined by the CHST qualified biomass conversion facility using accurate moisture measuring equipment;

(2) A copy of each invoice or paper check, reflecting the total payment received for delivery of the eligible material; each invoice or check must also be annotated and initialed by the manager or owners of the CHST qualified biomass conversion facility clearly indicating the per-ton payment rate the facility paid the owner for the eligible material delivery;

(3) If applicable, a copy of each bill of lading issued by any third party carrier for delivery of the eligible material to the certified biomass conversion facility;

(4) Any other additional documents or records determined necessary by the Deputy Administrator to verify eligibility for matching payment.

CHST Matching Payment Provisions

The CHST matching payment program will operate under the following provisions:

(1) Under the CHST matching payment program, CCC may make a payment for the delivery of eligible material to CHST qualified biomass conversion facilities to a person with the right to collect or harvest eligible material.

(2) CHST matching payments may be available only for a period of two years and will be paid at a rate of $1 for each $1 per ton received from the CHST qualified biomass conversion facility for the commercial sale of eligible material in an amount equal to not more than $45 per ton. All CHST matching payments are subject to Federal claims, Federal taxes as established by the IRS, and all other Federal payment restrictions and laws.

(3) Any payment or portion thereof to any person will be made without regard to questions of title under State law and without regard to any claim or lien against the eligible material, or proceeds thereof, in favor of the owner or any other creditor except agencies of the U.S. Government. The regulations governing offsets and withholdings found in 7 CFR part 1403 will be applicable to the payments.

(4) Any participant who may be entitled to any payment under this program may assign the right to receive such payments, in whole or in part, as provided in 7 CFR part 1404.

(5) All policies and procedures used to administer the determinations and payments for the CHST matching payment program are subject to the provisions of this NOFA.

(6) CHST matching payments are available to an eligible material owner only for a 2-year duration. Only one owner will receive the CHST matching payment for any eligible material.

(7) Owners of eligible material will be allowed to request CHST matching payment for eligible material delivered to and purchased by a CHST qualified biomass conversion facility. Under the 2-year limit duration, the time period will begin immediately after form AD-245 is first approved by the FSA county office for the CHST matching payment and will end 24 months later. No payments or other direct benefits are authorized to be paid to the CHST-qualified biomass conversion facilities under this NOFA, except when the facility owners are also an owner of eligible material and deliver and sell it to another facility under an arms-length transaction.

(8) Not more than twenty percent of the funds utilized under this Notice will be for matching payments to eligible material owners for the collection, harvest, storage and transportation of crop residue from commodities eligible to receive payments under Title I of the 2008 Farm Bill.

CHST Qualified Biomass Conversion Facility Requirements

To be considered a CHST qualified biomass conversion facility, the biomass conversion facility must enter into a Memorandum of Understanding with CCC and meet all these requirements as determined by CCC:

(1) The facility must meet the definition of a biomass conversion facility;

(2) The facility must meet all applicable regulatory and permitting requirements by applicable Federal, State, or local authorities;

(3) The facility owners and managers must agree in writing to:

(a) Maintain accurate records of all eligible material purchases and related documents regardless of whether CHST matching payments will be sought and

(b) Make available at one place and at all reasonable times for examination by representatives of USDA, all books, papers, records, contracts, scale tickets, settlement sheets, invoices, written price quotations, or other documents related to the program that are within the control of the facility for not less than 3 years from the application date;

(4) The facility must agree that post-qualification, general information about the facility and its eligible material will be made public by USDA and other entities;

(5) The facility must be an entirely separate legal entity from owners of eligible material who conduct purchases of eligible material from the owners for biomass acquisition using arms-length transactions;

(6) The facility must agree to clearly indicate on the scale ticket the actual tonnage delivered, have the manager or owner of the facility sign the scale ticket, and provide it to the eligible biomass owner. The facility must also agree to provide a total dry-weight tonnage equivalent to the eligible biomass owner;

(7) The facility must have access to commercial freight scales that are certified for accuracy by applicable State or local authorities and accurate moisture measurement equipment to determine the dry ton weight equivalent of actual tonnage delivered; and

(8) When a biomass conversion facility meets these terms and enters into an MOU with CCC, FSA county offices will periodically inform the public including agricultural and forest land owners and operators that matching payments may be available for deliveries of eligible material to CHST qualified biomass conversion facilities. FSA county offices will also maintain a publicly available listing of CHST qualified biomass conversion facilities for general public access and distribution that may include general information about the facility and its eligible material needs to encourage the development of new and open markets for commercial eligible material sales transactions. This information will also be maintained on FSA's Internet site: http://www.fsa.usda.gov/FSA/webapp?area=fsahome&subject=landing&topic=landing.

Appeals

The administrative appeal regulations in 7 CFR parts 11 and 780 apply to this program.

Administrative Procedure Act Statement

This NOFA is being issued without advance rulemaking or public comment. The Administrative Procedure Act (“APA”, 5 U.S.C. 553), has several exemptions to rulemaking requirements. Among them is an exemption for matters relating to Federal benefits, but under the provisions of the “Statement of Policy of the Secretary of Agriculture effective July 24, 1971,” issued by Secretary Hardin in 1971 (36 FR 13804, the “Hardin Memorandum”), the Department will normally engage in rulemaking related to Federal benefits despite that exemption. However, the Hardin Memorandum does not waive certain other APA-contained exemptions, in particular the “good cause” exemption found at 5 U.S.C. 553(b)(3)(B), which allows effective government action without rulemaking procedures where withholding the action would be “impracticable, unnecessary, or contrary to the public interest.” The Hardin memorandum specifically provides for the use of the “good cause” exemption, albeit sparingly, when a substantial basis for so doing exists, and where, as will be described more fully below, that substantial basis is explained.

Such would be the case here, in that this NOFA provides guidance for the CHST matching payments program as part of a process that will include rulemaking later this year. Additionally, this NOFA simply makes funds available in accord with a statutory mandate. USDA has determined that making these funds available as soon as possible is in the public interest. Withholding this NOFA to provide for public notice and comment would unduly delay the provision of benefits associated with this program. Should the actual practice of the program produce reasons for program modifications, those modifications can be brought to the attention of the Department and changes made in the future rulemaking process. The CHST matching payment program provisions will be included, with potential modifications, in rulemaking later this year. Delay caused by normal rulemaking procedures under the APA would frustrate the accomplishment of the purposes of the statutory provisions and would not produce benefits for this fiscal year.

Paperwork Reduction Act

In accordance with the Paperwork Reduction Act of 1995, through this notice, FSA is requesting comments from all interested individuals and organizations on a new information collection for CHST; this notice opens a 60-day comment period for the information collection requirements in this NOFA. While this notice requests comments on the information collection activities required for CHST, in order to meet the time frames mandated by the Presidential Memorandum discussed above, FSA submitted the following information collection request to the Office of Management and Budget (OMB) under the emergency procedure in accordance with the Paperwork Reduction Act of 1995. As discussed above in the APA section, there is good cause to forgo any delay associated with the opportunity for advance public comment. After OMB approval, the approved burden hours will be incorporated into the existing approval under OMB control number 0560-0082, which includes much of the same information for other conservation programs. CHST will provide financial assistance for CHST of eligible material for use in a biomass conversion facility in accordance with the 2008 Farm Bill.

Copies of all forms, regulations, and instructions referenced in this NOFA may be obtained from FSA. Data furnished by the applicants will be used to determine eligibility for program benefits. Furnishing the data is voluntary; however, the failure to provide data could result in program benefits being withheld or denied.

Title: BCAP CHST.

OMB Control Number: 0560-NEW.

Type of Request: New.

Abstract: This information collection is needed to comply with section 9011 (b)(2) of Title IX of the Farm Security and Rural Investment Act of 2002 (7 U.S.C. 8101-8113), which was added by the 2008 Farm Bill.

FSA employees will enter the application information from completed paper forms into the electronic AD-245 Application for Cost-Share form, which is currently approved under OMB control number 0560-0082 for other conservation programs. The AD-245 form will collect information about the owners of eligible material and estimated and actual biomass material sold and delivered to a qualified biomass conversion facility in order to approve applications for CHST matching payments and to calculate matching payments after sale and delivery. CHST will also use the existing AD-1047 Certification Regarding Debarment, Suspension, and Other Responsibility Matters—Primary Covered Transactions form. The AD-1047 form will help ensure that only those owners and managers of qualified biomass conversion facilities and those owners of eligible material who have not been disbarred, suspended, or otherwise made ineligible for Federal transactions are not qualified or determined eligible for BCAP. The AD-1047 will require the owners to certify that they are in compliance and not subject to disbarment or suspension. The information collection activities for CHST will include the following:

(1) Applicants will request to be qualified as a CHST-qualified biomass conversion facility and

(2) Applicants will register as an eligible material owner and then, after delivery of eligible material, request CHST matching payments for the collection, harvest, storage, and transportation of eligible material for use in a biomass conversion facility.

Specific descriptions of the information requirements are discussed in this NOFA above under the application sections. Applicants will submit estimated to register as eligible material owners and actual delivery information to request CHST matching payments. If the Deputy Administrator determines that additional information is necessary from an eligible material owner, it will be related information required to determine eligibility, ensure the ability to make proper payments, or to otherwise legally provide benefits to an eligible material owner.

Estimate of Burden: Public reporting burden for the collection of information is estimated to average half an hour per response for applicants requesting (1) qualification as a CHST-qualified biomass conversion facility and (2) CHST matching payments for collection, harvest, storage, and transportation of eligible material for use in a biomass conversion facility. The estimate is based on estimated completion of applicable sections of a memorandum of understanding, preparation of an AD-1047, and attaching required copies of permits and related certifications. The average travel time, which is included in the total burden, is estimated to be 1 hour per respondent.

Respondents: Individuals, Indian Tribes, units of State or local government, partnerships, corporations, farm cooperatives, farmer cooperative organizations, associations of agricultural producers, national laboratories, institutions of higher education, rural electric cooperatives, public power entities, consortia of any of these entities, and any other legal entities.

Estimated Number of Respondents: 5,600.

Estimated Number of Responses per Respondent: 4.

Estimated Total Annual Burden on Respondents: 42,000.

We are requesting comments on all aspects of the information collection to help us to:

(1) Evaluate whether the proposed collection of information is necessary for the proper performance of the functions of the agency, including whether the information will have practical utility;

(2) Evaluate the accuracy of the agency's estimate of the burden, including the validity of the methodology and assumptions used;

(3) Enhance the quality, utility, and clarity of the information to be collected; and

(4) Minimize the burden of the collection of information on those who are to respond, including through the use of appropriate automated, electronic, mechanical, or other technological collection techniques or other forms of information technology.

Other Provisions

The CHST matching payments will be subject to environmental compliance including NEPA compliance for all eligible material removed from Federal lands pursuant to existing Forest Service procedures, Forest Stewardship Plans for eligible material collected and harvested from private forest land, and Conservation plans and conservation compliance for eligible material collected or harvested from cropland.

Additionally, those lessons learned through operation of the CHST matching payment program will be combined with all comments, analysis, and other information and will be applied in rulemaking later this year.

Scheme or device: If it is determined by CCC that a person has employed a scheme or device to defeat the purposes of this program, any part of any program payment otherwise due or paid such person during the applicable period may be required to be refunded with interest as determined appropriate by CCC. Any eligibility determination of a biomass conversion facility that was based, in whole or part, on a scheme or device will be rescinded. A scheme or device includes, but is not limited to, coercion, fraud, misrepresentation, depriving any other person of a payment, or obtaining a payment that otherwise would not be payable.

Filing of false documents: If it is determined by CCC that any participant has knowingly supplied false information or has knowingly filed a false claim for payment or facility certification, such participant will be ineligible for payments or certification with respect to BCAP and a refund of all prior payments issued under BCAP, including CHST, may be demanded. False information or false claims include, but are not limited to: Claims for payment for eligible material delivery that are filed with incorrect factual information or do not match actual eligible material deliveries and claims for certification intentionally filed with incorrect information or with false or otherwise inaccurate information. Any amounts paid under these circumstances must be refunded, together with interest as determined by CCC, and any amounts otherwise due such participant will be withheld. The remedies provided for in this NOFA are in addition to any and all other remedies, criminal or civil that may apply.

Federal Assistance Programs

The title and number of the Federal assistance program in the Catalog of Federal Domestic Assistance to which this NOFA applies is 10.087—Biomass Crop Assistance Program.

Signed in Washington, DC, on June 8, 2009.
Douglas J. Caruso,
Executive Vice President, Commodity Credit Corporation.

[FR Doc. E9-13724 Filed 6-8-09; 4:15 pm]

BILLING CODE 3410-05-P